DEPARTMENT OF THE INTERIOR

Fish and Wildlife Service

[FWS-HQ-LE-2023-N095; FXLE12200900000-245-FF09L01300; OMB Control Number 1018-0180]

Agency Information Collection Activities; Submission to the Office of Management and Budget; U.S. Fish and Wildlife Service Law Enforcement Training System

AGENCY: Fish and Wildlife Service, Interior.

ACTION: Notice of information collection; request for comment.

SUMMARY: In accordance with the Paperwork Reduction Act of 1995, we, the U.S. Fish and Wildlife Service (Service), are proposing to revise a currently approved information collection.

DATES: Interested persons are invited to submit comments on or before February 2, 2024.

ADDRESSES: Written comments and recommendations for the proposed information collection should be submitted within 30 days of publication of this notice at https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018- 0180” in the subject line of your comments.

FOR FURTHER INFORMATION CONTACT: Madonna Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States. You may also view the information collection request (ICR) at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

On August 17, 2023, we published in the Federal Register (88 FR 56046) a notice of our intent to request that OMB approve this information collection. In that notice, we solicited comments for 60 days, ending on October 16, 2023. In an effort to increase public awareness of, and participation in, our public commenting processes associated with information collection requests, the Service also published the Federal Register notice on Regulations.gov (Docket No. FWS-HQ-LE-2023-0105) to provide the public with an additional method to submit comments (in addition to the typical Info_Coll@fws.gov email and U.S. mail submission methods). We received one comment which did not address the information collection requirements; therefore, no response is required.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Service's Office of Law Enforcement at the Federal Law Enforcement Training Centers (FLETC) coordinates and conducts training for Service special agents, wildlife inspectors, and administrative staff, as well as for State, Tribal, and foreign individuals responsible for wildlife and habitat protection. Over the past decade, there have been substantial increases in the numbers of programs and individuals trained, hours of training provided, and numbers of training sites.

The Training and Development Unit (TDU) at FLETC collects the required information necessary to administer training programs as authorized by the following:

• Bald and Golden Eagle Protection Act (16 U.S.C. 668-668c);

• Lacey Act (18 U.S.C. 42-43; 16 U.S.C. 3371-3378);

• National Wildlife Refuge System Administration Act (16 U.S.C 668dd-668ee);

• Migratory Bird Hunting Stamp Act (16 U.S.C. 718-718h);

• Migratory Bird Treaty Act (16 U.S.C. 703-712);

• Endangered Species Act (16 U.S.C. 1531-1543);

• Marine Mammal Protection Act (16 U.S.C. 1361-1407);

• Refuge Recreation Act (16 U.S.C. 460k-460k-4);

• Tariff Act of 1930 (19 U.S.C. 1202-1527);

• Uniform Federal Crime Reporting Act (28 U.S.C. 534);

• USA PATRIOT Act of 2001 (Pub. L. 107-56);

• USA PATRIOT Improvement and Reauthorization Act of 2005 (Pub. L. 109-177);

• Intelligence Reform and Terrorism Prevention Act of 2004 (Pub. L. 108-458);

• Homeland Security Act of 2002 (Pub. L. 107-296);

• Homeland Security Presidential Directive 12—Policy for a Common Identification Standard for Federal Employees and Contractors; and

• Criminal Intelligence Systems Operating Policies, 28 CFR part 23.

The TDU collects the below listed information from prospective domestic trainees requesting attendance in a training program:

• Applicant's full legal name, contact, and identifying information;

• Emergency contact name and phone number;

• Photograph;

• Biography;

• Highest education level; and

• Law enforcement affiliation information, to include title/rank, experience, and agency contacts.

Course participants automatically receive the post-course evaluation form soliciting provide feedback on the following:

• Length of experience;

• Program length;

• Overall ratings;

• Content, presentation, and course materials;

• Labs, practical exercises, and written exams;

• Program outcomes; and

• General comments.

We use the information collected to administratively record, track, and manage training records of domestic and foreign students affiliated with law enforcement agencies who attend training offered by the Service. The information also allows us to verify the records of previous attendees (upon official inquiry only) by name, country of origin, or specific identifying number.

Proposed Revisions

The Service is proposing to revise this information collection as follows:

1. (Discontinue) Account Registration (Foreign Students): We will request OMB approval to discontinue the previously approved information collection associated with the registration of international students attending TDU training. The State Department coordinates the vetting process for all prospective students. The State Department relies on the host country to vet the prospective students and uses a certification process for final selections which is exempt from the requirements of the PRA. Therefore, they do not have a control number for their selection/registration process.

The Service does not collect registration information for international students; therefore, we will request OMB approve our request to discontinue this specific information collection within OMB Control No. 1018-0180. Approval of this request to discontinue the information collection associated with registration of international students will result in an annual burden decrease of 1,000 responses and 250 burden hours. We will continue to request OMB approval of the burden associated with international students completing the course evaluations.

2. (New) Pre-Course Evaluation: We also propose to request OMB approval of the pre-test administered prior to the start of training. The pre-test gauges the participant's knowledge on topics such as adaptive leadership, adaptive challenges, use of intervention techniques, how to manage disequilibrium while exercising leadership, the use of interpretation during the diagnostic process, and systems thinking. At this time, we use Microsoft Office to deliver the pre-test. A link is sent to the participants, and they click on the link, take the test, and submit. This is an anonymous test, as we do not ask their name and it is used to show that knowledge of the curriculum has been gained during the program.

Title of Collection: U.S. Fish and Wildlife Service Law Enforcement Training System.

OMB Control Number: 1018-0180.

Form Number: None.

Type of Review: Revision of a currently approved information collection.

Respondents/Affected Public: Domestic and international students who attend the law enforcement/conservation training offered by the TDU.

Total Estimated Number of Annual Respondents: 164.

Total Estimated Number of Annual Responses: 164.

Estimated Completion Time per Response: Completion times vary from 10 minutes to 20 minutes, depending on activity.

Total Estimated Number of Annual Burden Hours: 29.

Respondent's Obligation: Required to obtain or retain a benefit.

Frequency of Collection: One time for the initial registration, and on occasion for pre- and post-course evaluations.

Total Estimated Annual Nonhour Burden Cost: None.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2023-28884 Filed 1-2-24; 8:45 am]

BILLING CODE 4333-15-P